DEPARTMENT OF THE INTERIOR

Bureau of Land Management

[WO-320-1990-PB-24 1A]

Notice of Information Collection To Be Submitted to the Office of Management and Budget for Review Under the Paperwork Reduction Act

The Bureau of Land Management (BLM) has submitted the proposed collection of information listed below to the Office of Management and Budget (OMB) for approval under the provisions of the Paperwork Reduction Act, 44 U.S.C. 3501 et seq. On February 8, 2000, BLM published a notice in the Federal Register (65 FR 8439) requesting comments on this proposed collection. The comment period closed on April 17, 2000. BLM received no comments from the public in response to that notice. Copies of the proposed collection of information and related forms and explanatory material may be obtained by contacting the BLM Clearance Officer at the telephone number listed below. Questions concerning the scope and administration of the program may be obtained by contacting the Bureau's program leader at the phone number listed below.

OMB is required to respond to this request within 60 days but may respond after 30 days. For maximum consideration your comments and suggestions on the requirement should be made within 30 days directly to the Office of Management and Budget, Interior Desk Officer (1004-0025), Office of Information and Regulatory Affairs, Washington, DC 20503. Please provide a copy of your comments to the Bureau Clearance Officer (WO-630), 1849 C St., NW, Mail Stop 401 LS, Washington, DC 20240.

Nature of Comments: We specifically request your comments on the following:

1. Whether collecting the information is necessary for BLM's proper functioning, including whether the information will have practical utility;

2. The accuracy of BLM's estimate of the burden of collecting the information, including the validity of the methodology and assumptions used;

3. The quality, utility and clarity of the information to be collected; and

4. How to minimize the burden of collecting the information on those who are to respond, including the use of appropriate automated electronic, mechanical or other forms of information technology.

Title: Mineral Patent Applications (43 CFR 3860) and Adverse Claims, Protests, and Conflicts (43 CFR 3870).

OMB Approval Number: 1004-0025.

Abstract: The BLM is proposing to renew the approval of an information collection for existing rules at 43 CFR 3860 and 3870. These rules provide for the application process to request a mineral patent for mining claims and mill sites under the General Mining Law of 1872, as amended. They also provide for land surveys of the requested mining claims or sites required before entities apply for a mineral patent and explain procedures set by statute for resolving adverse claims against the application by rival owners of mining claims and for protests of the public against irregular applications. The regulations also set forth the final administrative framework for concluding the process.

Bureau Form Numbers: 3860-2 and 3860-5.

Frequency: Once for the mineral survey, and once for the application for patent, or filing a protest or adverse claim.

Description of Respondents: Owners of unpatented mining claims and mill sites located upon the public lands, reserved mineral lands of the United States, National Forests, and National Parks.

Estimated Completion Times:

1 hour (mineral survey application)

80 Hours (mineral patent application) 2 hours (protests), 2 hours (contests), 2 hours (adverse claims)

Note: Completion times for the forms, 3860-2 and 3860-5, 4 hours and 1 hour respectively, are included in the burden estimates above.

Annual Responses:

25 (mineral surveys)

150 (mineral patent applications)

20 (protests)

50 (contests)

10 (adverse claims)

Note: Annual responses for the forms, 3860-2 and 3860-5, 125 and 25, respectively, are included in the annual response totals above.

Annual Burden Hours:

25 (mineral surveys)

12,000 (mineral patent applications)

40 (protests)

100 (contests)

20 (adverse claims)

Total: 12,185 hours

Annual Cost Burden Due to Non-Burden Hour Costs: $6.6 million.

Bureau Clearance Officer: Carole Smith (202) 452-0367.

Bureau Program Leader: Roger A. Haskins (202) 452-0355.

Dated: May 23, 2000.
Carole Smith,
BLM Information Clearance Officer.

[FR Doc. 00-14003 Filed 6-2-00; 8:45 am]

BILLING CODE 4310-84-M